DEPARTMENT OF DEFENSE

Office of the Secretary

Renewal of Department of Defense Federal Advisory Committees—U.S. Army Science Board

AGENCY: Department of Defense (DoD).

ACTION: Charter renewal of Federal advisory committee.

SUMMARY: The DoD is publishing this notice to announce that it is renewing the U.S Army Science Board (ASB).

FOR FURTHER INFORMATION CONTACT: Jim Freeman, DoD Advisory Committee Management Officer, 703-692-5952.

SUPPLEMENTARY INFORMATION: The ASB is being renewed in accordance with the Federal Advisory Committee Act (FACA) (5 U.S.C., appendix) and 41 CFR 102-3.50(d). The charter and contact information for the ASB's Designated Federal Officer (DFO) are found at https://www.facadatabase.gov/FACA/apex/FACAPublicAgencyNavigation.

The ASB provides the Secretary of Defense and the Deputy Secretary of Defense (“the DoD Appointing Authority”), through the Secretary of the Army, independent advice and recommendations related to the Department of the Army's scientific, technical, manufacturing, acquisition, logistics, and business management functions. The ASB shall be composed of no more than 20 members who are eminent authorities in one or more of the following disciplines and fields: Science; technology; manufacturing; acquisition; logistics; business management functions natural (e.g., biology, ecology), social (e.g., anthropology, community planning), and related sciences; and other matters of special interest to the DoD Appointing Authority or the Secretary of the Army.

Individual members are appointed according to DoD policy and procedures, and serve a term of service of one-to-four years with annual renewals. One member will be appointed as Chair of the ASB. No member, unless approved according to DoD policy and procedures, may serve more than two consecutive terms of service on the ASB, or serve on more than two DoD Federal advisory committees at one time.

ASB members who are not full-time or permanent part-time Federal civilian officers or employees, or active duty members of the Uniformed Services, are appointed as experts or consultants, pursuant to 5 U.S.C. 3109, to serve as special government employee members. ASB members who are full-time or permanent part-time Federal civilian officers or employees, or active duty members of the Uniformed Services are appointed pursuant to 41 CFR 102-3.130(a), to serve as regular government employee members.

All ASB members are appointed to provide advice based on their best judgment without representing any particular point of view and in a manner that is free from conflict of interest. Except for reimbursement of official ASB-related travel and per diem, members serve without compensation.

The public or interested organizations may submit written statements about the ASB's mission and functions. Written statements may be submitted at any time or in response to the stated agenda of planned meeting of the ASB. All written statements shall be submitted to the DFO for the ASB, and this individual will ensure that the written statements are provided to the membership for their consideration.

Dated: May 9, 2022.
Aaron T. Siegel,
Alternate OSD Federal Register Liaison Officer, Department of Defense.

[FR Doc. 2022-10402 Filed 5-12-22; 8:45 am]

BILLING CODE 5001-06-P